DEPARTMENT OF JUSTICE

Office of Justice Programs

Corrections Program Office; Agency Information Collection Activities: Proposed Collection; Comment Request

AGENCY: Office of Justice Programs; Department of Justice.

ACTION: Notice of information collection under review; New collection.

Program Guidance on Environmental Protection Requirements and Project Status Report for the Violent Offender Incarceration/Truth-in-Sentence Grant Program

The Department of Justice, Office of Justice Programs, Corrections Program Office, has submitted the following information collection request to the Office of Management and Budget (OMB) for review and clearance in accordance with emergency review procedures of the Paperwork Reduction Act of 1995. OMB approval has been requested by July 12, 2000. The proposed information collection is published to obtain comments from the public and affected agencies. If granted, the emergency approval is only valid for 180 days. Comments should be directed to OMB, Office of Information Regulation Affairs, (202) 395-7860, Department of Justice Desk Officer, Washington, DC 20530.

During the first 60 days of this same review period, a regular review of this information collection is also being undertaken. All comments and suggestions, or questions regarding additional information, to include obtaining a copy of the proposed information collection instrument with the instructions, should be directed to Patricia Malak, Environmental Coordinator, Office of Justice Programs, Corrections Program Office, 810 7th Street, NW, Washington, DC 20531, or facsimile at (202) 307-2019.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of Information Collection: New Collection.

(2) Title of the Form/Collection: Program Guidance on Environmental Protection Requirements and Project Status Report for the Violent Offender Incarceration/Truth-in-Sentencing Grant Program.

(3) Agency form number, If any, and the applicable component of the Department sponsoring the collection: Department of Justice, office of Justice Programs, Corrections Program office.

(4) Affected public who will be required to respond, as well as a brief abstract: Primary: State and Local Government. Other: None.

The Violent Offender Incarceration/Truth-in-Sentencing Grant Program, authorized under Title II, Subtitle A of the Violent Crime Control and Law Enforcement Act of 1994, as amended, provides funds for the construction of prisons and jails to assist states in their efforts to remove violent offenders from the community and to encourage states to implement truth-in-sentencing.

(5) An estimate of the total number of respondents and the amount of time estimated for an average respondent to respond/reply: The Project Status Report will be completed by approximately 150 respondents with initiated project and is expected to take approximately 60 minutes to complete. The Program Guidance requires the preparation of an Environmental Assessment (EA) or Environmental Impact Statement (EIS) for approximately 400-500 projects. An average EA may take 2-6 months to complete and an EIS approximately 12-18 months, although the time required will depend on the scope and nature of the project, the alternatives that are analyzed, the impacts on the environment, and public reaction to the project.

(6) An estimate of the total public burden (in hours) associated with the collection: Average time will vary depending on the scope of the project and the potential environmental impacts.

If additional information is required contact: Ms. Brenda E. Dyer, Deputy Clearance Office, United States Department of Justice, Information Management and Security Staff, Justice Management Division, Suite 1220, National Place Building, 1331 Pennsylvania Avenue, NW, Washington DC 20530.

Dated: June 28, 2000.
Brenda E. Dyer,
Deputy Clearance Officer, United States Department of Justice.

[FR Doc. 00-16795 Filed 6-30-00; 8:45 am]

BILLING CODE 4410-18-M